DEPARTMENT OF AGRICULTURE

Rural Utilities Service

Launching Our Communities' Access to Local Television Act of 2000

AGENCY: Rural Utilities Service, USDA.

ACTION: Notice of inquiry.

SUMMARY: In light of the rapid changes occurring in the communications and telecommunications industries, the Rural Utilities Service (RUS) is seeking additional information from the public in its efforts to implement the provisions of “Launching Our Communities” Access to Local Television Act of 2000,” Public Law 106-553, 47 U.S.C. 1101-1109 (the “Act”). The Act provides for a guaranteed loan program intended to facilitate access, on a technologically neutral basis, to signals of local television stations for households located in nonserved areas and underserved areas. The Act also requires the Administrator of RUS to prescribe regulations to implement the Act. RUS is issuing this notice of inquiry to assess the current interest of eligible entities in pursuing applications for funding under the Act, taking into account the following:

(1) Recent commercial and regulatory developments, including pending industry mergers;

(2) The impacts of new technology capable of providing local TV signals;

(3) The effects of the Satellite Home Viewer Improvement Act, Public Law 106-113, Eg. 47 U.S.C. 325, 338-9 (“SHVIA”), and

(4) The ability to accomplish the Act objectives utilizing current appropriations.

RUS believes it is beneficial to consider as many options as possible before prescribing regulations and this notice of inquiry will provide RUS with the most current industry information to consider in the drafting of those regulations.

DATES: Interested parties must submit written comments by May 30, 2002.

ADDRESSES: Submit written comments to Roberta D. Purcell, Assistant Administrator, Telecommunications Program, Rural Utilities Service, United States Department of Agriculture, 1400 Independence Ave., SW., stop 1590, room 4056-S, Washington, DC 20250-1590. RUS requires, in hard copy, a signed original and 3 copies of all comments (7 CFR 1700.4). Comments will be available for public inspection during normal business hours (7 CFR part 1).

FOR FURTHER INFORMATION CONTACT: Roberta D. Purcell, Assistant Administrator, Telecommunications Program, Rural Utilities Service, United States Department of Agriculture, 1400 Independence Avenue, SW., stop 1590, room 4056-S, Washington, DC 20250-1590. Phone: 202-720-9554. Fax: 202-720-0810. E-mail: bpurcell@rus.usda.gov.

SUPPLEMENTARY INFORMATION:

Background

On December 21, 2000, the “Launching Our Communities” Access to Local Television Act of 2000,” was signed into law as Public Law 106-553. The Act provides for the establishment of the Local Television Loan Guarantee Board (the “Board”), which consists of the Secretaries of Agriculture, Treasury, and Commerce, and the Chair of the Board of Governors of the Federal Reserve System, or their designees. The Board may approve loan guarantees up to 80 percent of $1.25 billion in loans, to facilitate access, on a technologically neutral basis, to signals of local television stations for households located in nonserved areas and underserved areas. The Act stipulates that, among other provisions, the Administrator of RUS shall prescribe regulations to implement the Act and shall issue and otherwise administer loan guarantees approved by the Board. No funds were appropriated for the Act for fiscal year (FY) 2001; hence, RUS was not authorized to draft and implement regulations until program funds were appropriated. The Agriculture FY 2002 Appropriations bill, signed into law on November 28, 2001, included $20,000,000 for the cost of guaranteed loans and $2,000,000 for salaries and administrative expenses to implement the Act. Under the provisions of the Appropriations Act, $258 million in loan guarantee authority is available for FY 2002.

As noted above, regulations must be prescribed on a “technologically neutral” basis. However, the $258 million appropriated for loan guarantees may limit the type of technology that can be financed. As the Act also contains several specialized technical and business provisions, RUS encourages interested parties to review the Act in its entirety on the RUS website at: http://www.usda.gov/rus/telecom/initiatives/initiatives.htm.

Request for Comment

RUS is requesting comment and discussion on the following topics:

(1) RUS seeks comment on recent changes in the industry that could affect the delivery of local TV signals to households located in nonserved areas and underserved areas. These changes include, among others, the mergers and acquisitions of cable, telephony, and Internet service providers. One developing factor that may have a significant impact on the provision of local TV signals to markets is the recently proposed merger of the two major direct broadcast satellite (DBS) providers. The Act could be noticeably affected, and its goal virtually fulfilled, if certain requirements are imposed on the survivor. In a February 26, 2002, joint press release, the companies involved in the merger proposed to offer every consumer in the continental United States, Alaska, and Hawaii access to satellite-delivered local television signals, thus covering all designated market areas in the United States.

(2) RUS is aware that new technologies have emerged and continue to develop that could provide local TV signals. RUS is seeking additional information on those technologies and, specifically, technologies that would be the most cost effective method of delivering local TV signals to the largest number of nonserved and underserved rural residences not located in the top 40 designated market areas (as that term is defined in 17 U.S.C. 1226(j)).

(3) In addition to the information solicited by the preceding question, RUS also seeks comments regarding what kinds of technology, if not the same, may be utilized to deliver, and the extent to which rural households located in nonserved and underserved areas could receive, local TV signals using the $258 million authorized for this program this fiscal year only.

(4) RUS is interested in comments from rural TV subscribers, who do not reside in major market TV station areas, concerning what affect, if any, recent Satellite Home Viewer Improvement Act (SHVIA) “carry one, carry all” provisions, effective January 1, 2002, and any other regulatory provisions or new products in the marketplace are having on their local TV viewing.

RUS invites interested parties including, but are not limited to, financial and lending institutions, equipment providers, facility and other TV broadcast providers, cable and satellite providers, trade associations, consumer groups, and individuals to provide RUS, in writing, any information or analyses they believe to be relevant to the issues discussed in this Notice and to the implementation of the loan guarantee program.

Dated: April 24, 2002.
Hilda Gay Legg,
Administrator, Rural Utilities Service.

[FR Doc. 02-10586 Filed 4-29-02; 8:45 am]

BILLING CODE 3410-15-P